DEPARTMENT OF COMMERCE

Foreign-Trade Zones Board

T-5-2006

Foreign-Trade Zone 196 - Fort Worth, Texas, Temporary/Interim Manufacturing Authority, Motorola, Inc. (Mobile Phone Kitting), Notice of Approval

On November 28, 2006, the Acting Executive Secretary of the Foreign-Trade Zones (FTZ) Board filed an application submitted by the Alliance Corridor, Inc., grantee of FTZ 196, requesting temporary/interim manufacturing (T/IM) authority within FTZ 196, at the mobile phone kitting facilities of Motorola, Inc., located in Fort Worth, Texas.

The application was processed in accordance with T/IM procedures, as authorized by FTZ Board Order 1347 (69 FR 52857, 8/30/04), including notice in the Federal Register inviting public comment (71 FR 70947, 12/7/06). The FTZ staff examiner reviewed the application and determined that it meets the criteria for approval under T/IM procedures. Pursuant to the authority delegated to the FTZ Board Executive Secretary in Board Order 1347, the application was approved, effective February 20, 2007, until February 20, 2008, subject to the FTZ Act and the Board's regulations, including Section 400.28.

Dated: February 22, 2007.
Andrew McGilvray,
Executive Secretary.

[FR Doc. E7-3513 Filed 2-28-07; 8:45 am]

BILLING CODE 3510-DS-S